DEPARTMENT OF TRANSPORTATION

Federal Aviation Administration

14 CFR Part 39

[Docket No. FAA-2007-29333; Directorate Identifier 2007-NM-141-AD]

RIN 2120-AA64

Airworthiness Directives; Boeing Model 737-600, -700, -700C, -800, and -900 Series Airplanes

AGENCY: Federal Aviation Administration (FAA), Department of Transportation (DOT).

ACTION: Notice of proposed rulemaking (NPRM); extension of comment period.

SUMMARY: This document extends the comment period for the above-referenced NPRM, which proposes the adoption of a new airworthiness directive (AD) that applies to certain Boeing Model 737-600, -700, -700C, -800, and -900 series airplanes. The NRPM would require various repetitive inspections to detect cracks along the chemically milled steps of the fuselage skin or missing or loose fasteners in the area of the preventative modification or repairs, replacement of the time-limited repair with the permanent repair if applicable, and applicable corrective actions if necessary, which would end certain repetitive inspections. The NPRM results from a fatigue test that revealed numerous cracks in the upper skin panel at the chemically milled step above the lap joint. This extension of the comment period is necessary to ensure that all interested persons have ample opportunity to submit any written relevant data, views, or arguments regarding the NPRM.

DATES: We must receive comments on this NPRM by December 3, 2007.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD, contact Boeing Commercial Airplanes, P.O. Box 3707, Seattle, Washington 98124-2207.

FOR FURTHER INFORMATION CONTACT: Wayne Lockett, Aerospace Engineer, Airframe Branch, ANM-120S, FAA, Seattle Aircraft Certification Office, 1601 Lind Avenue, SW., Renton, Washington 98057-3356; telephone (425) 917-6447; fax (425) 917-6590.

SUPPLEMENTARY INFORMATION: We proposed to amend 14 CFR part 39 with a notice of proposed rulemaking (NPRM) for an AD (the “original NPRM”) for certain Boeing Model 737-600, -700, -700C, -800, and -900 series airplanes. The original NPRM was published in the Federal Register on September 28, 2007 (72 FR 55118). The original NPRM proposed to require various repetitive inspections to detect cracks along the chemically milled steps of the fuselage skin or missing or loose fasteners in the area of the preventative modification or repairs, replacement of the time-limited repair with the permanent repair if applicable, and applicable corrective actions if necessary, which would end certain repetitive inspections. The original NPRM also invites comments on its overall regulatory, economic, environmental, and energy aspects.

Events Leading to Extension of Comment Period

Since we issued the NPRM, the DOT's Docket Management System (DMS) was replaced by the Federal Docket Management System (FDMS). FDMS is a government-wide, electronic docket management system, which contains the public dockets and is the method used for submitting comments on the overall regulatory, economic, environmental, and energy aspects of proposed rulemaking actions. However, due to the service disruption caused by the transition from DOT's DMS to the FDMS, the docket material was not posted on the FDMS until November 1, 2007. Therefore, we have determined that the public was not provided adequate opportunity to submit comments on the NPRM. As a result, we have decided to extend the comment period for this NPRM until December 3, 2007, to receive additional comments.

FAA's Determination

We have considered this issue and find it appropriate to extend the comment period to give all interested persons additional time to examine the proposed requirements of the original NPRM and submit comments. After evaluating the circumstances stated previously, we have determined that extending the comment period until December 3, 2007, will not compromise the safety of these airplanes.

Extension of Comment Period

The comment period for Docket No. FAA-2007-29333; Directorate Identifier 2007-NM-141-AD; has been revised. The comment period now closes December 3, 2007.

No other part of the regulatory information has been changed; therefore, the original NPRM is not republished in the Federal Register.

Issued in Renton, Washington, on November 7, 2007.
Ali Bahrami,
Manager, Transport Airplane Directorate, Aircraft Certification Service.

[FR Doc. 07-5656 Filed 11-9-07; 10:10 am]

BILLING CODE 4910-13-P